DEPARTMENT OF DEFENSE

Office of the Secretary

[DoD-2006-OS-0096]

Higher Initial Maximum Uniform Allowance Rate; Uniform Allowance

AGENCY: Department of Defense; Office of the Deputy Under Secretary of Defense (Civilian Personnel Policy).

ACTION: Notice.

SUMMARY: This is the final notice that the Department of Defense (DoD or “the Department”), is establishing a higher initial maximum uniform allowance to procure and issue uniform items for uniformed police personnel. This action is pursuant to the authority granted to DoD by § 591.104 of title 5, Code of Federal Regulations (CFR), which states that an agency may establish one or more initial maximum uniform allowance rates greater than the Governmentwide maximum uniform allowance rate established under 5 CFR 591.103.

DATES: Effective Date: February 11, 2007.

FOR FURTHER INFORMATION CONTACT: Mr. George T. Bell, 703-696-1268.

SUPPLEMENTARY INFORMATION: DoD is implementing a higher initial maximum uniform allowance to procure and issue uniform items for uniformed police personnel. This is in accordance with 5 CFR 591.104, which states that an agency may establish one or more initial maximum uniform allowance rates greater than the Governmentwide maximum uniform allowance rate established under 5 CFR 591.103. The current $400.00 limit has become inadequate to maintain the uniform standards and professional image expected of Federal police officers. The uniform items for uniformed police personnel include the following items or similar items such as: Goretex gloves; 6-pocket pants; 4-pocket long sleeve shirts; cold weather duty jackets; light weight duty jackets; sweaters; all season trousers; summer duty shirts; winter duty shirts; raincoats; sheriff's type hats; ties; shoes; leather boots; heavy duty coats; shoulder patches, and cloth badges. The average total uniform cost for the listed items is $1,800.00. Based on these current costs, the Department is increasing the initial maximum uniform allowance for uniformed police personnel to $1,800.00. A notice of this planned action was published in Federal Register on October 10, 2006 (71 FR 59496). Since no comments were received by the date of December 11, 2006, the Department of Defense is proceeding with the establishment of the higher initial maximum uniform allowance rate for uniformed police personnel. The effective date of this higher initial maximum uniform allowance rate is February 11, 2007.

Dated: February 15, 2007.
L.M. Bynum,
Alternative OSD Federal Register Liaison Officer, Department of Defense.

[FR Doc. 07-788 Filed 2-21-07; 8:45 am]

BILLING CODE 5001-06-M